DEPARTMENT OF EDUCATION

Applications for New Awards; Enhanced Assessment Instruments Grants Program—Enhanced Assessment Instruments

AGENCY: Office of Elementary and Secondary Education, Department of Education.

ACTION: Notice.

Overview Information

Enhanced Assessment Instruments Grants Program—Enhanced Assessment Instruments.

Notice inviting applications for new awards for fiscal year (FY) 2015.

Catalog of Federal Domestic Assistance (CFDA) Number: 84.368A.

DATES: Applications Available: April 28, 2015.

Deadline for Notice of Intent to Apply: May 28, 2015.

Deadline for Transmittal of Applications: June 29, 2015.

Deadline for Intergovernmental Review: August 26, 2015.

Full Text of Announcement

I. Funding Opportunity Description

Purpose of Program: The purpose of the Enhanced Assessment Instruments Grant program, also called the Enhanced Assessment Grants (EAG) program, is to enhance the quality of assessment instruments and systems used by States for measuring the academic achievement of elementary and secondary school students.

Background

States are continuing to improve their college- and career-ready assessment systems. These improvement efforts include initiatives to use technology to enhance the quality of assessments and timeliness and utility of the results, emphasize the leveraging of information gained from assessments in support of personalized learning, and survey existing State and local assessment frameworks to determine whether the assessment is serving its intended purpose to help schools meet their goals. For example, the Department appreciates that States need to continue developing new, innovative item types for use in summative assessments to find new, more authentic methods for collecting evidence about what a student knows and is able to do as it relates to State learning standards. Examples of this could include items that provide multi-step mathematics problems where students demonstrate their approach to solving each step; items that permit graphs or other visual response types; or simulated game environments where students interact with stimuli and interaction information is collected.

As technology continues to advance and become embedded in the classroom, assessment developers and educational leaders are looking for ways to leverage these advancements to improve the testing experience for students. For example, computer-adaptive tests could be used to capture a greater range of student performance. Leveraging technology could also improve the timeliness of reporting results, provide more options in the search for alternative ways to capture student knowledge and abilities, and improve the capability to automatically score non-multiple choice items.

These enhancements—improved assessments, faster assessment results, and alternative ways to capture student knowledge—are also important to support an initiative many States and school districts are pursuing, personalized learning for all students. Personalized classroom instruction is dependent upon having diagnostic, formative, interim, and summative assessments that produce reliable, valid, fair, and timely results in order to inform and tailor instruction for each student.

In addition, recently, there has been significant discussion about the amount of time students spend in formal testing, including classroom, district, and State assessments. Some State educational agencies (SEAs), local educational agencies (LEAs), and schools are currently in the process of reviewing assessments administered to students in kindergarten through grade 12 to better understand if each assessment is of high quality, maximizes instructional goals, has a clear purpose and utility, and is designed to provide information on students' progress toward achieving proficiency on State standards and assessments. The Department wants to invest in and recognize States that are reviewing and streamlining their assessments, including eliminating redundant and unnecessary assessments, for the purposes of identifying promising practices that could be followed by other SEAs, LEAs, and schools to maximize the utility of assessments to parents, educators, and students.

The Department also wants to invest in and support the development and enhancement of assessment systems to better measure the knowledge and abilities of all students, as is reflected in the priorities for this year's competition.

Priorities: This competition includes four absolute priorities, two competitive preference priorities, and three invitational priorities. In accordance with 34 CFR 75.105(b)(2)(iv), the absolute priorities are from section 6112 of the Elementary and Secondary Education Act of 1965, as amended (ESEA), 20 U.S.C. 7301a. The competitive preference priorities are from the Department's notice of final supplemental priorities and definitions for discretionary grant programs, published in the Federal Register on December 10, 2014 (79 FR 73425).

Absolute Priorities: For FY 2015 and any subsequent year in which we make awards from the list of unfunded applicants from this competition, these priorities are absolute priorities. Under 34 CFR 75.105(c)(3) we consider only applications that meet one or more of the absolute priorities.

These priorities are:

Absolute Priority 1—Collaboration

Collaborate with institutions of higher education, other research institutions, or other organizations to improve the quality, validity, and reliability of State academic assessments beyond the requirements for these assessments described in section 1111(b)(3) of the ESEA.

Absolute Priority 2—Use of Multiple Measures of Student Academic Achievement

Measure student academic achievement using multiple measures of student academic achievement from multiple sources.

Absolute Priority 3—Charting Student Progress Over Time

Chart student progress over time.

Absolute Priority 4—Comprehensive Academic Assessment Instruments

Evaluate student academic achievement through the development of comprehensive academic assessment instruments, such as performance- and technology-based academic assessments.

Competitive Preference Priorities: For FY 2015 and any subsequent year in which we make awards from the list of unfunded applicants from this competition, these priorities are competitive preference priorities. Under 34 CFR 75.105(c)(2)(i), the Department awards up to an additional 15 points to an application depending on how well the application meets competitive preference priority 1 and up to an additional 15 points to an application depending on how well the application meets competitive preference priority 2, for a total of up to 30 points if both competitive preference priorities are addressed.

These priorities are:

Competitive Preference Priority 1—Implementing Internationally Benchmarked College- and Career-Ready Standards and Assessments

Projects that are designed to support the implementation of, and transition to, internationally benchmarked college- and career-ready standards and assessments, including projects in one or more of the following:

(a) Developing and implementing student assessments (such as formative assessments, interim assessments, and summative assessments) or performance-based tools that are aligned with those standards, that are accessible to all students.

(b) Developing and implementing strategies that use the standards and information from assessments to inform classroom practices that meet the needs of all students.

Within this competitive preference priority, we are particularly interested in applications that address the following invitational priority.

Invitational Priority: Under 34 CFR 75.105(c)(1) we do not give an application that meets this invitational priority a competitive or absolute preference over other applications.

This priority is:

Invitational Priority 1—Developing Innovative Item Types

Projects that develop new, innovative item types for use in summative assessments to find new, more authentic methods for collecting evidence about a student's knowledge and abilities.

Competitive Preference Priority 2—Leveraging Technology To Support Instructional Practice and Professional Development

Projects that are designed to leverage technology through one or more of the following:

(a) Implementing high-quality accessible digital tools, assessments, and materials that are aligned with rigorous college- and career-ready standards.

(b) Using data platforms that enable the development, visualization, and rapid analysis of data to inform and improve learning outcomes, while also protecting privacy in accordance with applicable laws.

Within this competitive preference priority, we are particularly interested in applications that address the following invitational priority.

Invitational Priority: Under 34 CFR 75.105(c)(1) we do not give an application that meets this invitational priority a competitive or absolute preference over other applications.

This priority is:

Invitational Priority 2—Leveraging Technology To Support Personalized Learning and To Improve Assessment Tools

Projects that focus on leveraging technology to:

(a) Support personalized learning, including diagnostic, formative, interim, and summative assessments that can inform instruction;

(b) Develop new types of test items that use alternative or innovative methods to capture student knowledge and abilities; or

(c) Improve the capability to automatically score non-multiple choice items, such as to aid the development of computer-adaptive testing or improve the timeliness of reporting results.

Invitational Priority: For FY 2015 and any subsequent year in which we make awards from the list of unfunded applicants from this competition, this priority is an invitational priority. Under 34 CFR 75.105(c)(1) we do not give an application that meets this invitational priority a competitive or absolute preference over other applications.

This priority is:

Invitational Priority 3—Audit of State and Local Assessment Systems

Projects that propose exemplary approaches for reviewing existing assessments to ensure that each test is of high quality, maximizes instructional goals, has a clear purpose and utility, and is designed to help students demonstrate mastery of State standards.

Requirements: The following requirements for this competition are from the notice of final priorities, requirements, definitions, and selection criteria for this program published in the Federal Register on April 19, 2011 (76 FR 21985).

An eligible applicant awarded a grant under this program must:

(a) Evaluate the validity, reliability, and fairness of any assessments or other assessment-related instruments developed under a grant from this competition, and make available documentation of evaluations of technical quality through formal mechanisms (e.g., peer-reviewed journals) and informal mechanisms (e.g., newsletters), both in print and electronically;

(b) Actively participate in any applicable technical assistance activities conducted or facilitated by the Department or its designees, coordinate with Race To The Top Assessment program in the development of assessments under this program, and participate in other activities as determined by the Department;

(c) Develop a strategy to make student-level data that result from any assessments or other assessment-related instruments developed under a grant from this competition available on an ongoing basis for research, including for prospective linking, validity, and program improvement studies; ¹

¹ Eligible applicants awarded a grant under this program must comply with the Family Educational Rights and Privacy Act (FERPA) and 34 CFR part 99, as well as State and local requirements regarding privacy.

(d) Ensure that any assessments or other assessment-related instruments developed under a grant from this competition will be operational (ready for large-scale administration) at the end of the project period;

(e) Ensure that funds awarded under the EAG program are not used to support the development of standards, such as under the English language proficiency assessment system priority or any other priority;

(f) Maximize the interoperability of any assessments and other assessment-related instruments developed with funds from this competition across technology platforms and the ability for States to move their assessments from one technology platform to another by doing the following, as applicable, for any assessments developed with funds from this competition by—

(1) Developing all assessment items in accordance with an industry-recognized open-licensed interoperability standard that is approved by the Department during the grant period, without non-standard extensions or additions; and

(2) Producing all student-level data in a manner consistent with an industry-recognized open-licensed interoperability standard that is approved by the Department during the grant period;

(g) Unless otherwise protected by law or agreement as proprietary information, make any assessment content (i.e., assessments and assessment items) and other assessment-related instruments developed with funds from this competition freely available to States, technology platform providers, and others that request it for purposes of administering assessments, provided that those parties receiving assessment content comply with consortium or State requirements for test or item security; and

(h) For any assessments and other assessment-related instruments developed with funds from this competition, use technology to the maximum extent appropriate to develop, administer, and score the assessments and report results.

Definitions: The following definitions are from the notice of final priorities, requirements, definitions, and selection criteria for this program published in the Federal Register on April 19, 2011 (76 FR 21985), the notice of final priorities, requirement, definitions, and selection criteria for this program published in the Federal Register on May 23, 2013 (78 FR 31343), and from the Department's notice of final supplemental priorities and definitions for discretionary grant programs published in the Federal Register on December 10, 2014 (79 FR 73425).

English learner means a child, including a child aged three and younger, who is an English learner consistent with the definition of a child who is “limited English proficient,” as applicable, in section 9101(25) of the ESEA.

Formative assessment (also known as a classroom-based or ongoing assessment) means assessment questions, tools, and processes—

(a) That are—

(1) Specifically designed to monitor children's progress;

(2) Valid and reliable for their intended purposes and their target populations; and

(3) Linked directly to the curriculum; and

(b) The results of which are used to guide and improve instructional practices.

Student with a disability means a student who has been identified as a child with a disability under the Individuals with Disabilities Education Act, as amended.

Program Authority: 20 U.S.C. 7301a and 7842.

Applicable Regulations: (a) The Education Department General Administrative Regulations (EDGAR) in 34 CFR parts 75, 77, 79, 81, 82, 84, 86, 97, 98, and 99. (b) The OMB Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474. (d) The notice of final priorities, requirements, definitions, and selection criteria for this program published in the Federal Register on April 19, 2011 (76 FR 21985). (e) The notice of final priorities, requirement, definitions, and selection criteria for this program published in the Federal Register on May 23, 2013 (78 FR 31343). (f) The Department's notice of final supplemental priorities and definitions for discretionary grant programs published in the Federal Register on December 10, 2014 (79 FR 73426).

II. Award Information

Type of Award: Discretionary grants.

Estimated Available Funds: $8,945,000-$17,870,000.

Contingent upon the availability of funds and the quality of applications, we may make additional awards from the list of unfunded applicants from this competition.

Estimated Range of Awards: $1,000,000 to $6,000,000.

Estimated Average Size of Awards: $2,500,000.

Estimated Number of Awards: 3-6.

Note: Applicants should submit a single budget request for a single budget and propose a project period of up to 48 months. Applicants should request a time period that is up to 48 months, based on a timeline that takes into account the urgency of the need of the final project findings and products to be accessible to the field. Subject to the availability of future years' funds, the Department may make supplemental grant awards to the grants awarded in this competition.

Note: Applicants may not propose a budget for Invitational Priority 3, if addressed, of greater than $100,000.

Note: The Department is not bound by any estimates in this notice.

Project Period: Up to 48 months.

III. Eligibility Information

1. Eligible Applicants: SEAs as defined in section 9101(41) of the ESEA and consortia of such SEAs.

2. Cost Sharing or Matching: This competition does not require cost sharing or matching.

3. Other: An application from a consortium of SEAs must designate one SEA as the fiscal agent.

IV. Application and Submission Information

1. Address To Request Application Package: You can access the electronic grant application for the Enhanced Assessment Instruments Grants Program at www.Grants.gov. You must search for the downloadable application package for this competition by the CFDA number. Do not include the CFDA number's alpha suffix in your search (e.g., search for 84.368, not 84.368A). You can also obtain a copy of the application package by contacting the program contact, Erin Shackel, Enhanced Assessment Grants Program, Office of Elementary and Secondary Education, U.S. Department of Education, 400 Maryland Avenue SW., Room 3W111, Washington, DC 20202-6132. Telephone: (202) 453-6423 or by email: Erin.Shackel@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the person listed under Accessible Format in section VIII of this notice.

2. a. Content and Form of Application Submission: Requirements concerning the content of an application, together with the forms you must submit, are in the application package for this competition.

Page Limit: The project narrative (part 3 of the application) is where you, the applicant, address the selection criteria that reviewers use to evaluate your application. You must limit the project narrative (part 3) to the equivalent of no more than 65 pages, using the following standards:

• A “page” is 8.5″ x 11″, on one side only, with 1″ margins at the top, bottom, and both sides.

• Double space (no more than three lines per vertical inch) all text in the project narrative, including titles, headings, footnotes, quotations, references, and captions, as well as all text in charts, tables, figures, and graphs.

• Use Times New Roman font no smaller than 11.0 point for all text in the project narrative, including titles, headings, footnotes, quotations, references, and captions, as well as all text in charts, tables figures, and graphs. Font sizes that are smaller than 11 but round up to 11, such as 10.7 point, will be considered smaller than 11.0.

• Any screen shots included as part of the narrative should follow these standards or, if other standards are applied, be sized to equal the equivalent amount of space if these standards were applied.

The page limit applies to the project narrative (part 3), including the table of contents, which must include a discussion of how the application meets one or more of the absolute priorities; if applicable, how the application meets one or both of the competitive preference priorities; if applicable, how the applicant addresses the invitational priorities; and how well the application addresses each of the selection criteria. The page limit also applies to any attachments to the project narrative other than the references/bibliography. In other words, the entirety of part 3 of the application, including the aforementioned discussion and any attachments to the project narrative, must be limited to the equivalent of no more than 65 pages. The only allowable attachments other than those included in the project narrative are outlined in part 6, “Other Attachments Forms,” in the application package. Any attachments other than those included within the page limit of the project narrative and those outlined in part 6 will not be reviewed.

The 65-page limit, or its equivalent, does not apply to the following sections of an application: Part 1 (including the response regarding research activities involving human subjects); part 2 (two-page project abstract); part 4 (the budget sections, including the chart and narrative budget justification); part 5 (standard assurances and certifications); and part 6 (memoranda of understanding or other binding agreement, if applicable; copy of applicant's indirect cost rate agreement; letters of commitment and support from collaborating SEAs and organizations; and other attachments forms, including, if applicable, references/bibliography for the project narrative and individual résumés for project director(s) and key personnel). Applicants are encouraged to limit each résumé to no more than five pages.

In addition, do not use hyperlinks in an application. Reviewers will be instructed not to follow hyperlinks if included. Our reviewers will not read any pages of your project narrative that exceed the page limit, or the equivalent of the page limit if you apply other standards. Applicants are encouraged to submit applications that meet the page limit following the standards outlined in this section rather than submitting applications that are the equivalent of the page limit applying other standards.

3. Submission Dates and Times:

Applications Available: April 28, 2015.

Deadline for Notice of Intent To Apply: May 28, 2015.

We will be able to develop a more efficient process for reviewing grant applications if we have a better understanding of the number of applicants that intend to apply for funding under this competition. Therefore, we strongly encourage each potential applicant to notify us of the applicant's intent to submit an application for funding. This notification should be brief, and provide the applicant organization's name and the SEA the applicant will designate as the fiscal agent for an award. Submit this notification by email to Erin.Shackel@ed.gov with “Intent to Apply” in the email subject line or mail to Erin Shackel, U.S. Department of Education, 400 Maryland Avenue SW., Room 3W111, Washington, DC 20202-6132. Applicants that do not provide this email notification may still apply for funding.

Deadline for Transmittal of Applications: June 29, 2015.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 26, 2015.

4. Intergovernmental Review: This competition is subject to E.O. 12372 and the regulations in 34 CFR part 79. Information about Intergovernmental Review of Federal Programs under E.O. 12372 is in the application package for this competition.

5. Funding Restrictions: We reference regulations outlining funding restrictions in the Applicable Regulations section in this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications

Applications for grants under the EAG competition, CFDA number 84.368A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the EAG competition at www.Grants.gov. You must search for the downloadable application package for this competition by the CFDA number. Do not include the CFDA number's alpha suffix in your search (e.g., search for 84.368, not 84.368A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Erin Shackel, U.S. Department of Education, 400 Maryland Avenue SW., Room 3W111, Washington, DC 20202-6132. FAX: (202) 205-0310.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.368A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.368A), 550 12th Street, SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from EDGAR General Selection Criteria 34 CFR 75.210 and are listed in the application package. Specifically, the following general selection criteria apply to this competition: need for project, significance, quality of the project design, quality of project services, quality of project personnel, adequacy of resources, quality of the management plan, quality of the project evaluation, and strategy to scale.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993, the Department has developed four measures to evaluate the overall effectiveness of the Enhanced Assessment Instruments Grants program: (1) The number of States that participate in Enhanced Assessment Instruments Grants projects funded by this competition; (2) the percentage of grantees that, at least twice during the period of their grants, make available to SEA staff in non-participating States and to assessment researchers information on findings resulting from the Enhanced Assessment Instruments Grants through presentations at national conferences, publications in refereed journals, or other products disseminated to the assessment community; (3) for each grant cycle and as determined by an expert panel, the percentage of Enhanced Assessment Instruments Grants that yield significant research, methodologies, products, or tools regarding assessment systems or assessments; and (4) for each grant cycle and as determined by an expert panel, the percentage of Enhanced Assessment Instruments Grants that yield significant research, methodologies, products, or tools specifically regarding accommodations and alternate assessments for students with disabilities and limited English proficient students. Grantees will be expected to include in their interim and final performance reports information about the accomplishments of their projects because the Department will need data on these measures.

VII. Agency Contact

FOR FURTHER INFORMATION CONTACT: Erin Shackel, Enhanced Assessment Grants Program, Office of Elementary and Secondary Education, U.S. Department of Education, 400 Maryland Avenue SW., Room 3W111, Washington, DC 20202-6132. Telephone: (202) 453-6423 or by email: Erin.Shackel@ed.gov.

If you use a TDD or a TTY, call the FRS, toll-free, at 1-800-877-8339.

VIII. Other Information

Accessible Format: Individuals with disabilities can obtain this document and a copy of the application package in an accessible format (e.g., braille, large print, audiotape, or compact disc) on request to the program contact person listed under FOR FURTHER INFORMATION CONTACT in section VII in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 23, 2015.
Deborah S. Delisle,
Assistant Secretary for Elementary and Secondary Education.

[FR Doc. 2015-09898 Filed 4-27-15; 8:45 am]

BILLING CODE 4000-01-P